ENVIRONMENTAL PROTECTION AGENCY

[EPA-HQ-OAR-2003-0041 FRL—9781-2]

Proposed Information Collection Request; Comment Request; RadNet (Renewal)

AGENCY: Environmental Protection Agency (EPA).

ACTION: Notice.

SUMMARY: The Environmental Protection Agency is planning to submit an information collection request (ICR), “RadNet (Renewal)” (EPA ICR No. 0877.11, OMB Control No. 2060-0015) to the Office of Management and Budget (OMB) for review and approval in accordance with the Paperwork Reduction Act (44 U.S.C. 3501 et seq.). Before doing so, EPA is soliciting public comments on specific aspects of the proposed information collection as described below. This is a proposed extension of the ICR, which is currently approved through July 31, 2013. An Agency may not conduct or sponsor and a person is not required to respond to a collection of information unless it displays a currently valid OMB control number.

DATES: Comments must be submitted on or before April 16, 2013.

ADDRESSES: Submit your comments, referencing Docket ID No. EPA-HQ-OAR-2003-0041 referencing the Docket ID numbers provided for each item in the text, online using www.regulations.gov (our preferred method), by email to a-and-r-Docket and Information Center, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Charles M. Petko, Office of Radiation and Indoor Air (ORIA), National Air and Radiation Environmental Laboratory (NAREL), 540 South Morris Avenue, Montgomery, Alabama 36115-2601. Tel: 334-270-3411; fax number: 334-270-3454; email address: petko.charles@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: RadNet is a national network of stations collecting sampling media that include air, precipitation, drinking water, and milk. Samples are sent to EPA's National Air and Radiation Environmental Laboratory (NAREL) in Montgomery, Alabama, where they are analyzed for radioactivity. RadNet provides emergency response/homeland security and ambient monitoring information on levels of environmental radiation across the nation. All stations, usually operated by state and local personnel, participate in RadNet voluntarily. Station operators complete information forms that accompany the samples. The forms request descriptive information pertaining to sample location, e.g., sample type, sample location, length of sampling period, and volume represented.

Form Numbers: 5900-23, 5900-24, 5900-25, 5900-26, 5900-27, 5900-28, 5900-29, 5900-30, 5900-31.

Respondents/affected entities: Volunteer collectors of milk, air, precipitation, and drinking water samples to support EPA's national environmental radiation monitoring network known as RadNet.

Respondent's obligation to respond: voluntary.

Estimated number of respondents: 275 (total).

Frequency of response: Frequency varies according to medium being sampled: milk, quarterly; drinking water, quarterly; rain (precipitation), as events occur; and air, twice weekly.

Total estimated burden: 9,333 hours (per year). Burden is defined at 5 CFR 1320.03(b).

Total estimated cost: $480,073 in labor costs and no capital or O&M.

Changes in Estimates: There is an anticipated decrease in the total estimated burden currently identified in the OMB Inventory of Approved ICR Burdens. This decrease will result from the installation of new air monitors, which require less time from the station operators. Specific estimates of decreased burden are in progress. The new equipment was installed as a result of EPA's decision to upgrade existing air monitoring equipment.

Dated: February 5, 2013.
John Griggs,
Director, National Analytical Radiation Environmental Laboratory, EPA Office of Radiation and Indoor Air.

[FR Doc. 2013-03601 Filed 2-14-13; 8:45 am]

BILLING CODE 6560-50-P